DEPARTMENT OF HEALTH AND HUMAN SERVICES

Centers for Disease Control and Prevention

[Program Announcement 04119]

Testing for Primary HIV Infection in Seronegative Patients; Amendment

A notice announcing the availability of fiscal year (FY) 2004 funds for cooperative agreements for Testing for Primary HIV Infection in Seronegative Patients was published in the Federal Register on May 24, 2004, volume 69, Number 100, pages 29546-29551.

The notice is amended as follows:

• On page 29547, second column, second bullet, please change the first sentence to read: “Identify seronegative and indeterminate specimens through customary HIV testing procedures from a variety of setting types with various prevalence within their jurisdictions; at least 25,000 venipuncture specimens must be identified.

• On page 29548, second column, under “Approximate Average Award,” add the following sentence within the parentheses: “Funding amounts for part 1 will vary according to volume of testing proposed.”

• On page 29548, third column, under “III.3. Other,” please change the second paragraph to read: “Applicants for part 1 must demonstrate that over 600 HIV-seropositive tests were conducted on venipuncture specimens and reported, as part of the CDC-funded Counseling and Testing System (CTS) in the proposed jurisdiction in the last year for which data are available. A sufficiently high level of HIV morbidity and volume is required of the participating sites in order to evaluate the feasibility of this activity at higher morbidity areas, and in order to complete this research within the required timeframe and available budget. CTS is CDC's standard surveillance system for HIV testing. Venipuncture specimens are necessary for the performance of the requisite laboratory tests.

Preference will be given to applicants with higher prevalence rates and then to those with higher testing volumes.

Dated: June 25, 2004.
Alan Kotch,
Acting Director, Procurement and Grants Office, Centers for Disease Control and Prevention.

[FR Doc. 04-14936 Filed 6-30-04; 8:45 am]

BILLING CODE 4163-18-P